DEPARTMENT OF AGRICULTURE

Foreign Agricultural Service

Notice To Request an Extension for a Currently Approved Information Collection

AGENCY: Foreign Agricultural Service, USDA.

ACTION: Notice and request for comments.

SUMMARY: In accordance with the Paperwork Reduction Act (PRA) of 1995, this notice announces the intention of the Foreign Agricultural Service to request an extension for a currently approved information collection for the Pima Agricultural Cotton Trust Fund.

DATES: Comments on this notice must be received by October 10, 2017 to be assured of consideration.

ADDRESSES: We invite you to submit comments as requested in this document. In your comment, include the volume, date, and page number of this issue of the Federal Register. You may submit comments by any of the following methods:

• Federal eRulemaking Portal: Go to http://www.regulations.gov. Follow the online instructions for submitting comments.

• Mail, hand delivery, or courier: Peter W. Burr, Branch Chief, Import Programs and Export Reporting Division, Foreign Agricultural Service, U.S. Department of Agriculture, 1400 Independence Ave. SW., Mail Stop 1021, Washington, DC 20250;

• Email: pimawool@fas.usda.gov ; or

• Telephone: (202) 720-3274

Comments will be available for inspection online at http://www.regulations.gov and at the mail address listed above between 8:00 a.m. and 4:30 p.m., Monday through Friday, except holidays.

Persons with disabilities who require an alternative means for communication of information (e.g., Braille, large print, audiotape, etc.) should contact USDA's Target Center at (202) 720-2600 (voice and TDD).

FOR FURTHER INFORMATION CONTACT: Peter W. Burr, 202-720-3274, pimatwool@fas.usda.gov.

SUPPLEMENTARY INFORMATION:

Title: Pima Agricultural Cotton Trust Fund.

OMB Control Number: 0551-0044.

Expiration Date of Approval: December 31, 2017.

Type of Request: Extension of a currently approved information collection.

Abstract: This information collection is required for affidavits submitted to FAS for claims against the Pima Agricultural Cotton Trust Fund. Claimants of the Pima Agricultural Cotton Trust Fund will be required to submit electronically a notarized affidavit to request a distribution from the Trust Fund to FAS and will be available on the FAS Web site under the Pima Agriculture Cotton Trust Fund program section.

Estimate of Burden: Public reporting burden for this collection of information is estimated to average 1 hour per response for affidavits related to the Pima Agricultural Cotton Trust Fund.

Respondents: Under the Pima Agricultural Cotton Trust Fund there are three groups of potential respondents, all of whom must meet the requirements of Section 12314 of Act (Pub. L. 113-79): (1) One or more nationally recognized associations established for the promotion of pima cotton for use in textile and apparel goods; (2) Certain yarn spinners of pima cotton that produced ring spun cotton yarns in the United States from pima cotton during the year for which the affidavit is filed and during calendar year 2013; (3) Manufacturers that certify that during the year for which the affidavit is filed and during calendar year 2013, used imported cotton fabric to cut and sew men's and boys' cotton shirts in the United States.

Estimated Number of Respondents: 7.

Estimated Number of Responses per Respondent: 1.

Estimated Number of Responses: 7.

Estimated Total Annual Burden on Respondents: 7 hours.

Request for Comments: We are requesting comments on all aspects of this information collection to help us to: (1) Evaluate whether the collection of information is necessary for the proper performance of FAS's functions, including whether the information will have practical utility; (2) Evaluate the accuracy of FAS's estimate of burden including the validity of the methodology and assumptions used; (3) Enhance the quality, utility and clarity of the information to be collected; and (4) Minimize the burden of the collection of information on those who are to respond, including through the use of appropriate automated, electronic, mechanical, or other technological collection techniques or other forms of information technology. Copies of this information collection can be obtained from Connie Ehrhart, the Agency Information Collection Coordinator, at (202) 690-1578 or email at Connie.Ehrhart@fas.usda.gov.

All comments received in response to this notice, including names and addresses when provided, will be a matter of public record. Comments will be summarized and included in the submission for Office of Management and Budget approval.

E-Government Act Compliance

FAS is committed to complying with the E-Government Act, to promote the use of the Internet and other information technologies to provide increased opportunities for citizen access to Government information and services, and for other purposes.

Dated: August 1, 2017.
Holly Higgins,
Acting Administrator, Foreign Agricultural Service.

[FR Doc. 2017-16788 Filed 8-8-17; 8:45 am]

BILLING CODE 3410-10-P